DEPARTMENT OF COMMERCE

International Trade Administration

(A-427-808)

Certain Corrosion-Resistant Carbon Steel Flat Products from France: Notice of Rescission of Antidumping Duty Administrative Review

AGENCY: Import Administration, International Trade Administration, Department of Commerce.

SUMMARY: The U.S. Department of Commerce (the Department) is rescinding its administrative review of the antidumping duty order on certain corrosion-resistant carbon steel flat products (CORE) from France for the period August 1, 2005, through July 31, 2006.

EFFECTIVE DATE: March 2, 2007.

FOR FURTHER INFORMATION CONTACT: Judy Lao or Angelica Mendoza, AD/CVD Operations, Office 7, Import Administration, International Trade Administration, U.S. Department of Commerce, 14th Street and Constitution Avenue NW, Washington, DC 20230; telephone: (202) 482-7924 and (202) 482-3019, respectively.

SUPPLEMENTARY INFORMATION:

Background

On August 1, 2006, the Department published in the Federal Register its notice of opportunity to request an administrative review of the antidumping duty order on CORE from France. See Antidumping or Countervailing Duty Order, Finding, or Suspended Investigation; Opportunity to Request Administrative Review, 71 FR 43441 (August 1, 2006). In response, on August 31, 2006, United States Steel Corporation (U.S. Steel), a domestic interested party, requested an administrative review of the antidumping duty order on CORE from France for the period of review (POR) of August 1, 2005, through July 31, 2006, with respect to entries of merchandise exported or shipped by Duferco Coating SA and Sorral SA (collectively, Duferco Sorral). Respondent Duferco Sorral did not request an administrative review. On September 29, 2006, the Department initiated an administrative review of Duferco Sorral. See Initiation of Antidumping and Countervailing Duty Administrative, 71 FR 57465 (September 29, 2006). On October 16, 2006, the Department issued its antidumping duty questionnaire to Duferco Sorral. On November 13, 2006, Duferco Sorral and its U.S. affiliate, Duferco Steel, Inc., filed certifications that they did not, directly or indirectly, enter for consumption, or sell, export, or ship for entry for consumption in the United States, subject merchandise during the POR. See Letter to the Secretary from White and Case LLP, dated November 13, 2006.

On December 11, 2006, the Department issued a “No Shipment Inquiry” to U.S. Customs and Border Protection (CBP) to confirm that there were no shipments or entries of CORE from France exported by Duferco Sorral during the POR of the instant administrative review. On December 27, 2006, the Department confirmed, based on its internal review of CBP data and the results of its CBP inquiry, there were no entries of subject merchandise exported or shipped by Duferco Sorral during the POR. See Memorandum to the File from Angelica L. Mendoza, through Stephen Bailey, Acting Program Manager, Office 7, Duferco Coating SA and Sorral SA (collectively Duferco Sorral) - No Shipments of Certain Corrosion-Resistant Carbon Steel Flat Products from France Per CBP Inquiry, dated December 27, 2006. On January 19, 2007, U.S. Steel submitted a letter withdrawing its request for an administrative review of shipments or entries of CORE from France exported by Duferco Sorral. See Letter from Skadden, Arps, Slate, Meagher & Flom, LLP, dated January 19, 2007.

Rescission of Antidumping Duty Administrative Review

19 C.F.R. § 351.213(d)(1) provides that the Department will rescind an administrative review if the party that requested the review withdraws its request for review within 90 days of the date of publication of the notice of initiation of the requested review, or withdraws at a later date if the Department determines it is reasonable to extend the time limit for withdrawing the request. U.S. Steel's request is past the 90-day time limit; however, we find that it is reasonable to extend the deadline. In response to U.S. Steel's withdrawal of its request for an administrative review as well as the fact that Duferco Sorral had no shipments of subject merchandise during the POR pursuant to 19 C.F.R. § 351.213(d)(3), the Department hereby rescinds the administrative review of the antidumping duty order on CORE from France for the period August 1, 2005, through July 31, 2006.

The Department intends to issue appropriate assessment instructions to CBP 15 days after the date of the publication of this notice. The Department will direct CBP to assess antidumping duties for Duferco Sorral at the cash deposit rate in effect on the date of entry for entries during the period August 1, 2005, through July 31, 2006.

Notification to Importers

This notice serves as a final reminder to importers of their responsibility under 19 C.F.R. § 351.402(f)(2) to file a certificate regarding the reimbursement of antidumping duties prior to liquidation of the relevant entries during this review period. Failure to comply with this requirement could result in the Secretary's assumption that reimbursement of antidumping duties occurred and the subsequent assessment of double antidumping duties.

This notice also serves as a reminder to parties subject to administrative protective order (APO) of their responsibility concerning the disposition of proprietary information disclosed under APO in accordance with 19 C.F.R. § 351.305(a)(3). Timely written notification of the return/destruction of APO materials or conversion to judicial protective order is hereby requested. Failure to comply with the regulations and the terms of an APO is a sanctionable violation.

This notice is published in accordance with section 777(i)(1) of the Tariff Act of 1930, as amended, and 19 C.F.R. § 351.213(d)(4).

Dated: February 23, 2007.
Stephen J. Claeys,
Deputy Assistant Secretary for Import Administration.

[FR Doc. E7-3698 Filed 3-1-07; 8:45 am]

BILLING CODE 3510-DS-S